SUSQUEHANNA RIVER BASIN COMMISSION

Commission Meeting

AGENCY: Susquehanna River Basin Commission.

ACTION: Notice.

SUMMARY: The Susquehanna River Basin Commission will hold its regular business meeting on March 5, 2015, in Hershey, Pennsylvania. Details concerning the matters to be addressed at the business meeting are contained in the Supplementary Information section of this notice.

DATES: March 5, 2015, at 9:00 a.m.

ADDRESSES: Hershey Lodge, 325 University Drive, Hershey, PA 17033.

FOR FURTHER INFORMATION CONTACT: Jason E. Oyler, Regulatory Counsel, telephone: (717) 238-0423, ext. 1312; fax: (717) 238-2436.

SUPPLEMENTARY INFORMATION: The business meeting will include actions or presentations on the following items: (1) Informational presentation of interest to the Lower Susquehanna Subbasin area; (2) revision of FY-2016 budget; (3) ratification/approval of contracts/grants; (4) resolution to encourage the use of dry cooling technology for power generation and other facilities for the conservation of the waters of the Susquehanna River Basin; (5) notice for Four Seasons Golf Course project sponsor to appear and show cause before the Commission; (6) regulatory compliance matter for Cabot Oil & Gas Corporation; and (7) Regulatory Program projects. Projects listed for Commission action are those that were the subject of a public hearing conducted by the Commission on January 29, 2015, and identified in the notice for such hearing, which was published in 80 FR 98, January 2, 2015.

Opportunity To Appear and Comment:

Interested parties are invited to attend the business meeting and encouraged to review the Commission's Public Meeting Rules of Conduct, which are posted on the Commission's Web site, www.srbc.net. As identified in the public hearing notices referenced above, written comments on the Regulatory Program projects that were the subject of a public hearing, and are listed for action at the business meeting, are subject to a comment deadline of February 9, 2015. Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before February 27, 2015, to be considered.

Authority: Pub. L. 91-575, 84 Stat. 1509 et seq., 18 CFR parts 806, 807, and 808.

Dated: January 30, 2015.
Stephanie L. Richardson,
Secretary to the Commission.

[FR Doc. 2015-02409 Filed 2-5-15; 8:45 am]

BILLING CODE 7040-01-P